NUCLEAR REGULATORY COMMISSION

[Docket Nos. 030-06111 And 070-00781]

Notice of Availability of Environmental Assessment and Finding of No Significant Impact For License Amendment For the Pennsylvania Department of Environmental Protection, Harrisburg, PA

AGENCY: Nuclear Regulatory Commission.

ACTION: Notice of Availability.

FOR FURTHER INFORMATION CONTACT: Stephen Hammann, Commercial and R&D Branch, Division of Nuclear Materials Safety, Region 1, U.S. Nuclear Regulatory Commission, 475 Allendale Road, King of Prussia, Pennsylvania 19406, telephone: (610) 337-5399; fax number: (610) 337-5269; e-mail: STH2@nrc.gov.

SUPPLEMENTARY INFORMATION:

I. Introduction

The Nuclear Regulatory Commission (NRC) is considering the issuance of amendments to Material License Nos. 37-03698-01 and SNM-719, issued to the Pennsylvania Department of Environmental Protection (PADEP) (the licensee), to authorize release of its Evangelical Press Building, 3rd and Reilly Streets, Harrisburg, Pennsylvania, for unrestricted use, and has prepared an Environmental Assessment (EA) in support of this amendment in accordance with the requirements of 10 CFR part 51. Based on the EA, the NRC has concluded that a Finding of No Significant Impact (FONSI) is appropriate. The amendment will be issued following the publication of this Notice.

II. EA Summary

The purpose of the proposed amendment is to allow for the release of the licensee's Harrisburg, Pennsylvania facility for unrestricted use. The PADEP was authorized by the NRC in 1962 to use radioactive materials for instrument calibration, sample preparation, analysis of environmental samples, and measuring the physical properties of materials at the site. On August 19, 2005, the PADEP requested that NRC release the facility for unrestricted use. PADEP has conducted surveys of the facility and provided information to the NRC to demonstrate that the site meets the license termination criteria in Subpart E of 10 CFR part 20 for unrestricted release.

The staff has prepared an EA in support of the proposed license amendment. The facility was surveyed and remediated as necessary by the licensee. The NRC staff has reviewed the information and final status survey submitted by PADEP. Based on its review, the staff has determined that there are no additional remediation activities necessary to complete the proposed action. Therefore, the staff considered the impact of the residual radioactivity at the facility and concluded that since the residual radioactivity meets the requirements in Subpart E of 10 CFR Part 20, a Finding of No Significant Impact is appropriate.

III. Finding of No Significant Impact

The staff has prepared an EA in support of the proposed license amendments to release the site for unrestricted use. The staff has found that the radiological environmental impacts from the proposed amendment are bounded by the impacts evaluated by NUREG 1496, Volumes 1-3, “Generic Environmental Impact Statement in Support of Rulemaking on Radiological Criteria for License termination of NRC-Licensed Facilities” (ML042310492, ML042320379, and ML042330385). The staff has also found that the non-radiological impacts are not significant. On the basis of the EA, NRC has concluded that there are no significant environmental impacts from the proposed amendment and has determined not to prepare an environmental impact statement.

IV. Further Information

Documents related to this action, including the application for amendment and supporting documentation, are available electronically at the NRC's Electronic Reading Room at http://www.nrc.gov/reading-rm/adams.html. From this site, you can access the NRC”s Agencywide Document Access and Management System (ADAMS), which provides text and image files of NRC's public documents. The ADAMS accession numbers for the documents related to this notice are: Environmental Assessment [ML060820173]; Request for Amendment dated August 19, 2005 [ML060550247]; NRC's request for additional information dated September 28, 2005 [ML052720490]; and Final Status Survey Results dated November 7, 2005 [ML060550248]. If you do not have access to ADAMS or if there are problems in accessing the documents located in ADAMS, contact the NRC Public Document Room (PDR) Reference staff at 1-800-397-4209, 301-415-4737, or by e-mail to pdr@nrc.gov.

These documents may also be viewed electronically on the public computers located at the NRC's PDR, O 1 F21, One White Flint North, 11555 Rockville Pike, Rockville, MD 20852. The PDR reproduction contractor will copy documents for a fee.

Documents related to operations conducted under these licenses not specifically referenced in this Notice may not be electronically available and/or may not be publicly available. Persons who have an interest in reviewing these documents should submit a request to NRC under the Freedom of Information Act (FOIA). Instructions for submitting a FOIA request can be found on the NRC's Web site at http://www.nrc.gov/reading-rm/foia/foia-privacy.html.

Dated at King of Prussia, Pennsylvania this 23rd day of March, 2006.
For the Nuclear Regulatory Commission.
James P. Dwyer,
Chief, Commercial and R&D Branch, Division of Nuclear Materials Safety, Region 1.

[FR Doc. E6-5261 Filed 4-10-06; 8:45 am]

BILLING CODE 7590-01-P